DEPARTMENT OF DEFENSE

Office of the Secretary

32 CFR Part 327

[Docket ID: DOD-2019-OS-0080]

RIN 0790-AK72

Defense Commissary Agency Privacy Act Program

AGENCY: Defense Commissary Agency, Defense Department (DoD).

ACTION: Final rule.

SUMMARY: This final rule removes DoD's regulation concerning the Defense Commissary Agency Privacy Act Program. On April 11, 2019, the Department of Defense published a revised DoD-level Privacy Program rule, which implements the Privacy Act and establishes an agency-wide privacy program that serves as the single Privacy Program rule for the Department. That revised Privacy Program rule also includes all DoD component exemption rules. Therefore, this part is now unnecessary and should be removed from the CFR.

DATES: This rule is effective on September 17, 2020.

FOR FURTHER INFORMATION CONTACT: Ralph J. Tremaglio, Senior Agency Official for Privacy at 804-734-8000, Ext. 48116.

SUPPLEMENTARY INFORMATION: DoD now has a single DoD-level Privacy Program rule at 32 CFR part 310 (84 FR 14728) that contains all the codified information required for the Department. The Defense Commissary Agency Privacy Act Program regulation at 32 CFR part 327, last updated on June 28, 2000 (65 FR 39806), is no longer required and can be removed.

It has been determined that publication of this CFR part removal for public comment is impracticable, unnecessary, and contrary to public interest since it is based on the removal of policies and procedures that are either now reflected in another CFR part, 32 CFR part 310, or are publicly available on the Department's website. The Defense Commissary Agency will publish any future internal policy implementing the Privacy Act in DeCA Directive 80-21, “Defense Commissary Agency Privacy Program,” April 15, 2010 (available at https://onenet.commissaries.com/documents/browse-documents?documenttype=57).

This rule is one of 20 separate DoD Component Privacy rules. With the finalization of the DoD-level Privacy rule at 32 CFR part 310, the Department is eliminating separate component Privacy Act programs and reducing costs to the public as explained in the preamble of the DoD-level Privacy rule published at 84 FR 14728.

This rule is not significant under Executive Order (E.O.) 12866, “Regulatory Planning and Review.” Therefore, E.O. 13771, “Reducing Regulation and Controlling Regulatory Costs,” does not apply.

List of Subjects in 32 CFR Part 327 Privacy.

PART 327—[REMOVED]

Accordingly, by the authority of 5 U.S.C. 301, 32 CFR part 327 is removed.

Dated: August 19, 2020.
Aaron T. Siegel,
Alternate OSD Federal Register Liaison Officer, Department of Defense.

[FR Doc. 2020-18522 Filed 9-16-20; 8:45 am]

BILLING CODE 5001-06-P